SMALL BUSINESS ADMINISTRATION

[Disaster Declaration #17108 and #17109; Louisiana Disaster Number LA-00114]

Presidential Declaration of a Major Disaster for Public Assistance Only for the State of Louisiana

AGENCY: U.S. Small Business Administration.

ACTION: Notice.

SUMMARY: This is a Notice of the Presidential declaration of a major disaster for Public Assistance Only for the State of Louisiana (FEMA-4606-DR), dated 08/20/2021.

Incident: Severe Storms, Tornadoes, and Flooding.

Incident Period: 05/17/2021 through 05/21/2021.

DATES: Issued on 08/20/2021.

Physical Loan Application Deadline Date: 10/19/2021.

Economic Injury (EIDL) Loan Application Deadline Date: 05/20/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 08/20/2021, Private Non-Profit organizations that provide essential services of a governmental nature may file disaster loan applications at the address listed above or other locally announced locations.

The following areas have been determined to be adversely affected by the disaster:

Primary Parishes: Ascension, Assumption, Calcasieu, East Baton Rouge, Iberville, Lafourche.

The Interest Rates are:

| Percent
For Physical Damage:
Non-Profit Organizations with Credit Available Elsewhere | 2.000
Non-Profit Organizations without Credit Available Elsewhere | 2.000
For Economic Injury:
Non-Profit Organizations without Credit Available Elsewhere | 2.000

The number assigned to this disaster for physical damage is 17108 B and for economic injury is 17109 0.

(Catalog of Federal Domestic Assistance Number 59008)

James Rivera,
Associate Administrator for Disaster Assistance.

[FR Doc. 2021-18448 Filed 8-26-21; 8:45 am]

BILLING CODE 8026-03-P